DEPARTMENT OF TRANSPORTATION

Federal Aviation Administration

14 CFR Part 39

[Docket No. FAA-2020-0457; Product Identifier 2020-NM-039-AD; Amendment 39-21261; AD 2020-20-05]

RIN 2120-AA64

Airworthiness Directives; Airbus SAS Airplanes

AGENCY: Federal Aviation Administration (FAA), Department of Transportation (DOT).

ACTION: Final rule.

SUMMARY: The FAA is superseding Airworthiness Directive (AD) 2018-25-02 and AD 2019-23-01, which applied to certain Airbus SAS Model A318 series airplanes; Model A319-111, -112, -113, -114, -115, -131, -132, and -133 airplanes; Model A320-211, -212, -214, -216, -231, -232, -233, -251N, -252N, and -271N airplanes; and Model A321 series airplanes. Those ADs require revising the existing maintenance or inspection program, as applicable, to incorporate new or more restrictive maintenance requirements and/or airworthiness limitations. This AD requires revising the existing maintenance or inspection program, as applicable, to incorporate new or more restrictive airworthiness limitations; as specified in a European Union Aviation Safety Agency (EASA) AD, which is incorporated by reference. This AD was prompted by a determination that new or more restrictive airworthiness limitations are necessary and models need to be added to the applicability. The FAA is issuing this AD to address the unsafe condition on these products.

DATES: This AD is effective November 19, 2020.

The Director of the Federal Register approved the incorporation by reference of certain publications listed in this AD as of November 19, 2020.

The Director of the Federal Register approved the incorporation by reference of a certain other publication listed in this AD as of January 9, 2020 (84 FR 66579, December 5, 2019).

ADDRESSES: For the EASA material identified in this AD that will be incorporated by reference (IBR), contact the EASA, Konrad-Adenauer-Ufer 3, 50668 Cologne, Germany; telephone +49 221 8999 000; email ADs@easa.europa.eu; internet www.easa.europa.eu. You may find this IBR material on the EASA website at https://ad.easa.europa.eu.

For the Airbus material that is incorporated by reference, contact Airbus SAS, Airworthiness Office—EIAS, Rond-Point Emile Dewoitine No: 2, 31700 Blagnac Cedex, France; telephone +33 5 61 93 36 96; fax +33 5 61 93 44 51; email account.airworth-eas@airbus.com; internet http://www.airbus.com.

You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0457.

Examining the AD Docket

You may examine the AD docket on the internet at https://www.regulations.gov by searching for and locating Docket No. FAA-2020-0457; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, Large Aircraft Section, International Validation Branch, FAA, 2200 South 216th St., Des Moines, WA 98198; telephone and fax 206-231-3223; email sanjay.ralhan@faa.gov.

SUPPLEMENTARY INFORMATION:

Discussion

The EASA, which is the Technical Agent for the Member States of the European Union, has issued EASA AD 2020-0036R1, dated June 24, 2020 (“EASA AD 2020-0036R1”) (also referred to as the Mandatory Continuing Airworthiness Information, or “the MCAI”), to correct an unsafe condition for all Airbus SAS Model A318 series airplanes; Model A319-111, -112, -113, -114, -115, -131, -132, -133, -151N, and -153N airplanes; Model A320-211, -212, -214, -215, -216, -231, -232, -233, -251N, -252N, -253N, -271N, -272N, and -273N airplanes; and Model A321 series airplanes. EASA AD 2020-0036R1 revised EASA AD 2020-0036, dated February 26, 2020 (“EASA AD 2020-0036”) (which the FAA referred to as the appropriate source of service information for accomplishing the actions specified in the notice of proposed rulemaking (NPRM)), and superseded EASA AD 2018-0288 (which corresponds to FAA AD 2019-23-01 (AD 2019-23-01, Amendment 39-19794 (84 FR 66579, December 5, 2019) (“AD 2019-23-01”)). Model A320-215 airplanes are not certificated by the FAA and are not included on the U.S. type certificate data sheet; this AD therefore does not include those airplanes in the applicability.

The FAA issued a NPRM to amend 14 CFR part 39 to supersede AD 2019-23-01, for certain Airbus SAS Model A318 series airplanes; A319-111, -112, -113, -114, -115, -131, -132, and -133 airplanes; A320-211, -212, -214, -216, -231, -232, -233, -251N, -252N, and -271N airplanes; and A321 series airplanes. AD 2019-23-01 required revising the existing maintenance or inspection program, as applicable, to incorporate new or more restrictive airworthiness limitations. AD 2019-23-01 required airworthiness limitations that are newer or more restrictive than those specified in AD 2018-25-02, Amendment 39-19513 (83 FR 62690, December 6, 2018) (“AD 2018-25-02”). AD 2019-23-01 specified that accomplishing the revision required by paragraph (i) of AD 2019-23-01 terminated all requirements of AD 2018-25-02. The NPRM published in the Federal Register on June 1, 2020 (85 FR 33046). The NPRM was prompted by a determination that new or more restrictive airworthiness limitations are necessary and models need to be added to the applicability. The NPRM proposed to require revising the existing maintenance or inspection program, as applicable, to incorporate new or more restrictive airworthiness limitations.

The FAA is issuing this AD to address fatigue cracking, accidental damage, or corrosion in principal structural elements, which could result in reduced structural integrity of the airplane. See the MCAI for additional background information.

Comments

The FAA gave the public the opportunity to participate in developing this final rule. The following presents the comments received on the NPRM and the FAA's response to each comment.

Request To Use Revised EASA AD

United Airlines (UAL) and American Airlines (AAL) supported the NPRM and asked that the proposed AD refer to EASA AD 2020-0036R1 for accomplishing the required actions (EASA AD 2020-0036, dated February 26, 2020, was referred to in the proposed AD). UAL stated that EASA AD 2020-0036R1 will allow operators to use current requirements and prevent issuing a revised AD to require compliance with the revised EASA AD. AAL also noted that operators should be allowed to use the revised EASA AD.

The FAA agrees with the commenters' requests. EASA AD 2020-0036R1 does not substantively change the requirements of EASA AD 2020-0036. Instead, EASA AD 2020-0036R1 adds credit for EASA AMOC approval 10071736 to EASA AD 2018-0288, and notes that Issue 02 of the ALS has been released. The FAA has changed all references in this AD from EASA AD 2020-0036 to EASA AD 2020-0036R1, added paragraph (l) to this AD to provide credit for Rev 0, and changed subsequent paragraphs of this AD accordingly.

Request To Confirm Intent To Allow Use of Later ALS Revisions

Delta Air Lines (DAL) requested confirmation that the FAA intended to allow the use of later ALS revisions to comply with the proposed AD. The commenter noted that previous ADs required an alternative method of compliance (AMOC) to use a later ALS revision.

The FAA confirms that it intends to allow the use of applicable later ALS revisions to comply with the requirements of this AD. This AD refers to EASA AD 2020-0036R1 as the appropriate source of service information for accomplishing the required actions. EASA AD 2020-0036R1 includes the Ref. Publications section, which accepts the use of later approved variations or revisions of the referenced ALS document for compliance. Therefore, applicable later approved ALS revisions are acceptable.

Request To Allow AMOC Approval for Alternative Actions or Intervals After Revision of Maintenance or Inspection Program

DAL requested that paragraph (k) of the proposed AD be changed to also allow alternative actions and intervals after the maintenance and inspection program has been revised, provided that the actions or intervals are approved as an alternative method of compliance (AMOC) in accordance with the procedures specified in paragraph (n)(1) of the proposed AD. Delta provided no reason or justification for the request.

The FAA acknowledges the commenter's request and provides clarification that, if applicable, requesting an AMOC is always an option; therefore, it is not necessary to revise paragraph (k) of this AD. This AD has not been changed regarding this request.

Conclusion

The FAA reviewed the relevant data, considered the comments received, and determined that air safety and the public interest require adopting this final rule with the change described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related IBR Material Under 1 CFR Part 51

EASA AD 2020-0036R1 describes new or more restrictive airworthiness limitations for damage tolerance of airplane structures.

This AD also requires Airbus A318/A319/A320/A321 Airworthiness Limitations Section (ALS) Part 2-Damage Tolerant Airworthiness Limitation Items (DT-ALI), Revision 07, dated June 13, 2018, which the Director of the Federal Register approved for incorporation by reference as of January 9, 2020 (84 FR 66579, December 5, 2019).

This material is reasonably available because the interested parties have access to it through their normal course of business or by the means identified in the ADDRESSES section.

Costs of Compliance

The FAA estimates that this AD affects 1,553 airplanes of U.S. registry. The FAA estimates the following costs to comply with this AD:

The FAA estimates the total cost per operator for the retained actions from AD 2019-23-01 to be $7,650 (90 work-hours × $85 per work-hour).

The FAA has determined that revising the existing maintenance or inspection program takes an average of 90 work-hours per operator, although the agency recognizes that this number may vary from operator to operator. In the past, the agency has estimated that this action takes 1 work-hour per airplane. Since operators incorporate maintenance or inspection program changes for their affected fleet(s), the FAA has determined that a per-operator estimate is more accurate than a per-airplane estimate. The FAA estimates the total cost per operator for the new proposed actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2018-25-02, Amendment 39-19513 (83 FR 62690, December 6, 2018), and AD 2019-23-01, Amendment 39-19794 (84 FR 66579, December 5, 2019); and

b. Adding the following new AD:

2020-20-05 Airbus SAS: Amendment 39-21261; Docket No. FAA-2020-0457; Product Identifier 2020-NM-039-AD.

(a) Effective Date

This AD is effective November 19, 2020.

(b) Affected ADs

This AD replaces AD 2018-25-02, Amendment 39-19513 (83 FR 62690, December 6, 2018) (“AD 2018-25-02”), and AD 2019-23-01, Amendment 39-19794 (84 FR 66579, December 5, 2019) (“AD 2019-23-01”).

(c) Applicability

This AD applies to Airbus SAS airplanes identified in paragraphs (c)(1) through (4) of this AD, certificated in any category, with an original certificate of airworthiness or original export certificate of airworthiness issued on or before October 11, 2019.

(1) Model A318-111, -112, -121, and -122 airplanes.

(2) Model A319-111, -112, -113, -114, -115, -131, -132, -133, -151N, and -153N airplanes.

(3) Model A320-211, -212, -214, -216, -231, -232, -233, -251N, -252N, -253N, -271N, -272N, and -273N airplanes.

(4) Model A321-111, -112, -131, -211, -212, -213, -231, -232, -251N, -251NX, -252N, -252NX, -253N, -253NX, -271N, -271NX, -272N, and -272NX airplanes.

(d) Subject

Air Transport Association (ATA) of America Code 05, Time Limits/Maintenance Checks.

(e) Reason

This AD was prompted by a determination that new or more restrictive airworthiness limitations are necessary. The FAA is issuing this AD to address fatigue cracking, accidental damage, or corrosion in principal structural elements, which could result in reduced structural integrity of the airplane.

(f) Compliance

Comply with this AD within the compliance times specified, unless already done.

(g) Retained Maintenance or Inspection Program Revision, With No Changes

This paragraph restates the requirements of paragraph (g) of AD 2019-23-01, with no changes. Accomplishing the maintenance or inspection program revision required by paragraph (i) of this AD terminates the requirements of this paragraph.

(1) For airplanes with an original certificate of airworthiness or original export certificate of airworthiness issued on or before June 13, 2018, except for Model A319-151N and -153N airplanes and Model A320-253N, -272N, and -273N airplanes: Within 90 days after January 9, 2020 (the effective date of AD 2019-23-01), revise the existing maintenance or inspection program, as applicable, to incorporate the information specified in Airbus A318/A319/A320/A321 Airworthiness Limitations Section (ALS) Part 2—Damage Tolerant Airworthiness Limitation Items (DT-ALI), Revision 07, dated June 13, 2018.

(2) The initial compliance time for doing the tasks is at the time specified in Airbus A318/A319/A320/A321 Airworthiness Limitations Section (ALS) Part 2—Damage Tolerant Airworthiness Limitation Items (DT-ALI), Revision 07, dated June 13, 2018, or within 90 days after January 9, 2020, whichever occurs later.

(h) Retained Restriction on Alternative Actions and Intervals With a New Exception

This paragraph restates the requirements of paragraph (h) of AD 2019-23-01, with a new exception. Except as required by paragraph (i) of this AD, after the maintenance or inspection program has been revised as required by paragraph (g) of this AD, no alternative actions (e.g., inspections) or intervals may be used unless the actions or intervals are approved as an alternative method of compliance (AMOC) in accordance with the procedures specified in paragraph (m)(1) of this AD.

(i) New Maintenance or Inspection Program Revision

Except as specified in paragraph (j) of this AD: Comply with all required actions and compliance times specified in, and in accordance with, European Union Aviation Safety Agency (EASA) AD 2020-0036R1, dated June 24, 2020 (“EASA AD 2020-0036R1”). Accomplishing the maintenance or inspection program revision required by this paragraph terminates the requirements of paragraph (g) of this AD.

(j) Exceptions to EASA AD 2020-0036R1

(1) The requirements specified in paragraphs (1) and (2) of EASA AD 2020-0036R1 do not apply to this AD.

(2) Paragraph (3) of EASA AD 2020-0036R1 specifies revising “the AMP” within 12 months after its effective date, but this AD requires revising the existing maintenance or inspection program, as applicable, to incorporate the “tasks and associated thresholds and intervals” specified in paragraph (3) of EASA AD 2020-0036R1 within 90 days after the effective date of this AD.

(3) The initial compliance times for doing the tasks specified in paragraph (3) of EASA AD 2020-0036R1 are at the applicable “associated thresholds” specified in paragraph (3) of EASA AD 2020-0036R1, or within 90 days after the effective date of this AD, whichever occurs later.

(4) The provisions specified in paragraphs (4), (5), and (6) of EASA AD 2020-0036R1 do not apply to this AD.

(5) The “Remarks” section of EASA AD 2020-0036R1 does not apply to this AD.

(k) New Provisions for Alternative Actions or Intervals

After the existing maintenance or inspection program has been revised as required by paragraph (i) of this AD, no alternative actions (e.g., inspections) or intervals are allowed unless they are approved as specified in the provisions of the “Ref. Publications” section of EASA AD 2020-0036R1.

(l) Credit for Original EASA AD

This paragraph provides credit for actions required by paragraph (i) of this AD, if those actions were performed before the effective date of this AD using EASA AD 2020-0036, dated February 26, 2020.

(m) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the International Section, send it to the attention of the person identified in paragraph (n) of this AD. Information may be emailed to: 9-AVS-AIR-730-AMOC@faa.gov.

(i) Before using any approved AMOC, notify your appropriate principal inspector, or lacking a principal inspector, the manager of the local flight standards district office/certificate holding district office.

(ii) AMOCs approved previously for AD 2019-23-01 are approved as AMOCs for the corresponding provisions of EASA AD 2020-0036R1 that are required by paragraph (g) of this AD.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(n) Related Information

For more information about this AD, contact Sanjay Ralhan, Aerospace Engineer, Large Aircraft Section, International Validation Branch, FAA, 2200 South 216th St., Des Moines, WA 98198; telephone and fax 206-231-3223; email sanjay.ralhan@faa.gov.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on November 19, 2020.

(i) European Union Aviation Safety Agency (EASA) AD 2020-0036R1, dated June 24, 2020.

(ii) [Reserved]

(4) The following service information was approved for IBR on January 9, 2020 (84 FR 66579, December 5, 2019).

(i) Airbus A318/A319/A320/A321 Airworthiness Limitations Section (ALS) Part 2—Damage Tolerant Airworthiness Limitation Items (DT-ALI), Revision 07, dated June 13, 2018.

(ii) [Reserved]

(5) For information about EASA AD 2020-0036R1, contact the EASA, Konrad-Adenauer-Ufer 3, 50668 Cologne, Germany; telephone +49 221 8999 000; email ADs@easa.europa.eu; internet www.easa.europa.eu. You may find this EASA AD on the EASA website at https://ad.easa.europa.eu.

(6) For information about the Airbus material that is incorporated by reference, contact Airbus SAS, Airworthiness Office—EIAS, Rond-Point Emile Dewoitine No: 2, 31700 Blagnac Cedex, France; telephone +33 5 61 93 36 96; fax +33 5 61 93 44 51; email account.airworth-eas@airbus.com; internet http://www.airbus.com.

(7) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0457.

(8) You may view this material that is incorporated by reference at the National Archives and Records Administration (NARA). For information on the availability of this material at NARA, email fedreg.legal@nara.gov, or go to: https://www.archives.gov/federal-register/cfr/ibr-locations.html.

Issued on September 18, 2020.
Lance T. Gant,
Director, Compliance & Airworthiness Division, Aircraft Certification Service.

[FR Doc. 2020-22760 Filed 10-14-20; 8:45 am]

BILLING CODE 4910-13-P